UNITED STATES AGENCY FOR GLOBAL MEDIA

Public Input for USAGM 2022-2026 Strategic Plan

AGENCY: United States Agency for Global Media.

ACTION: Request for comment.

SUMMARY: The United States Agency for Global Media (USAGM) requests public input to inform development of USAGM's Strategic Plan for fiscal years 2022-2026.

DATES: Submit comments by July 9, 2021.

ADDRESSES: You may send comments by any of the following methods:

• Agency website: www.usagm.gov. Follow the instructions for submitting comments at www.usagm.gov/request-for-public-input-on-usagm-strategic-plan-2022-2026.

• Email: publicaffairs@usagm.gov. Please include the phrase `strategic plan' in the subject line of the message.

FOR FURTHER INFORMATION CONTACT: Laurie Moy, Acting Director of Public Affairs, at publicaffairs@usagm.gov or (202) 920-2380.

SUPPLEMENTARY INFORMATION: The U.S. Agency for Global Media (USAGM) is an independent establishment that supervises U.S. international broadcasting under the U.S. Information and Educational Exchange Act of 1948, the U.S. International Broadcasting Act of 1994 (as amended), and other authorities. In accordance with the Government Performance and Results Modernization Act of 2010, USAGM is required to submit its Strategic Plan to Congress the year following the start of a presidential term.

USAGM is in the process of developing its Strategic Plan for fiscal years 2022-2026 and is consulting a wide range of stakeholders. USAGM welcomes public input into this process on the following questions:

• What are the biggest challenges facing USAGM and other publicly-funded international media over the next five years?

• What are the biggest opportunities for USAGM and other publicly-funded international media over the next five years?

• Do you have any advice for agency leaders on how to position USAGM to best fulfill its mission “to inform, engage, and connect audiences around the world in support of freedom and democracy”?

Dated: June 16, 2021.
Daniel Rosenhotlz,
Attorney-Advisor, Policy Officer U.S. Agency for Global Media.

[FR Doc. 2021-13082 Filed 6-21-21; 8:45 am]

BILLING CODE 8610-01-P